DEPARTMENT OF AGRICULTURE

Food and Nutrition Service

Agency Information Collection Activities: Proposed Collection; Comment Request—National Hunger Clearinghouse Database Form

AGENCY: Food and Nutrition Service (FNS), USDA.

ACTION: Notice.

SUMMARY: In accordance with the Paperwork Reduction Act of 1995 (44 U.S.C. Chapter 35, as amended), this notice invites the general public and other public agencies to comment on this information collection, concerning the National Hunger Clearinghouse.

DATES: Comments on this notice must be received by May 18, 2009.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques or other forms of information technology.

Comments may be sent to Rachel Johnson, Program Analyst, Office of Strategic Initiatives, Partnerships, and Outreach, Food and Nutrition Service, U.S. Department of Agriculture, 3101 Park Center Drive, Room 912, Alexandria, VA 22302. Comments may also be submitted via fax to the attention of Rachel Johnson, Program Analyst, at 703-305-2908 or via e-mail to Rachel.Johnson@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 912, Alexandria, Virginia 22302.

All responses to this notice will be summarized and included in the request for Office of Management and Budget approval. All comments will also become a matter of public record.

FOR FURTHER INFORMATION CONTACT: Requests for additional information or copies of this information collection should be directed to Rachel Johnson, Program Analyst, at 703-305-2297. Copies of this information collection may be obtained from Ms. Johnson at the address listed above.

SUPPLEMENTARY INFORMATION:

Title: National Hunger Clearinghouse Database Form.

OMB Number: 0584-0474.

Expiration Date: 7/31/2009.

Type of Request: Revision of a currently approved collection.

Abstract: Section 26(d) of the Richard B. Russell National School Lunch Act (42 U.S.C. 1769g(d)) (the Act), which was added to the Act by section 123 of Public Law 103-448 on November 2, 1994, mandated that FNS enter into a contract with a non-governmental organization to establish and maintain an information clearinghouse (named “USDA National Hunger Clearinghouse” or “Clearinghouse”) for groups that assist low-income individuals or communities regarding nutrition assistance programs or other assistance. FNS awarded this contract to the national hunger advocacy organization World Hunger Year (WHY) of New York, NY. Section 26(d) was amended by section 112 of Public Law 105-336 on October 31, 1998 to extend funding for the Clearinghouse (now called “National Hunger Clearinghouse” or “Clearinghouse”) through fiscal year 2003. This Act was amended by Public Law 108-265 on June 30, 2004, and provided increased funding for the Clearinghouse.

The Clearinghouse includes a database of non-governmental, grassroots programs that work in the areas of hunger and nutrition, as well as a mailing list of relevant local governmental agencies. Under the original contract, Clearinghouse staff established the database by reviewing relevant programs of organizations contained in several existing mailing lists. Program and mailing information about organizations pulled from these lists were collected and entered into the database once each contract year via a mail survey with follow up to ensure high response rates. Surveys are also completed online at http://www.worldhungeryear.org/forms/nhc_form.asp. Survey questionnaires will continue to be sent out under the current contract. From this information collection, the following information was determined:

Estimate of the Burden: Public reporting burden for this collection of information is estimated to average five (5) minutes to complete the survey (the survey includes one two-page instrument).

Affected Public: Business or other for-profit, non-profit organizations providing nutrition assistance services to the public.

Estimated Number of Respondents: 1,750.

Estimated Number of Responses per Respondent: One response per respondent.

Estimated Total Annual Burden: 146 hours.

Dated: March 10, 2009.
E. Enrique Gomez,
Acting Administrator, Food and Nutrition Service.

[FR Doc. E9-5753 Filed 3-16-09; 8:45 am]

BILLING CODE 3410-30-P